DEPARTMENT OF THE INTERIOR

National Park Service

Notice of Availability of a Draft General Management Plan, Draft Environmental Impact Statement for Great Falls Park, Virginia, a Site Within George Washington Memorial Parkway

AGENCY: National Park Service, National Capital Region.

ACTION: Notice.

SUMMARY: Pursuant to section 102(2)(c) of the National Environmental Policy Act of 1969, the National Park Service announces the availability of a draft General Management Plan and Environmental Impact Statement (GMP/EIS) for Great Falls Park, McLean, Virginia. The GMP/EIS evaluates two alternatives for the park. The document describes and analyzes the environmental impacts of one action alternative and a no-action alternative. When approved, the plan will guide management actions during the next 15-20 years.

Alternatives: In Alternative A, the no action alternative, Great Falls Park would be maintained as evolved thus far. There would not be any major changes in resources management, visitor programs, or facilities beyond regular maintenance. In Alternative B, the preferred alternative, the visitor center would be rehabilitated to improve exhibits and establish an education component on resource protection; a trail management plan and climbing management plan would be developed to reduce potential damage to sensitive cultural and natural resources. One new facility would be constructed to replace existing maintenance buildings and United States Park Police (USPP) trailer that would all be removed. The new building would accommodate park staff offices (relocated from the visitor center), maintenance personnel and equipment, law enforcement staff offices, and a holding cell. The park would also construct a USPP horse stable off Jackson Lane within the park. All of the restroom facilities would be improved and expanded at current locations.

Public Review: A 60-day public review period for comment on the draft document will begin after publication of this notice. In order to facilitate the review process, public reading copies of the GMP/EIS will be available for review at the following locations: Great Falls Park, Visitor Center, 9200 Old Dominion Drive, McLean, Virginia 22102; George Washington Memorial Parkway, Turkey Run Park, McLean, Virginia 22101; Great Falls Library, 9830 Georgetown Pike, Great Falls, Virginia 22066.

In addition, the document will be posted on the National Park Service Planning site under: http://www.nps.gov/gwmp/grfa. Comments on the draft DGMP/EIS should be received (or transmitted by e-mail) no later than 60 days after publication of this Federal Register Notice. Written comments may be submitted to: Deborah Feldman, Park Planner, George Washington Memorial Parkway, National Park Service, Turkey Run Park, McLean, Virginia 22101 or e-mailed to: GWMP_Superintendent@nps.gov.

All comments received will be available for public review at George Washington Memorial Parkway Headquarters. If individuals submitting comments request that their name and/or address be withheld from public disclosure, it will be honored to the extent allowable by law. Such request must be stated prominently in the beginning of the comments. There also may be circumstances wherein the National Park Service will withhold a respondent's identity as allowable by law. As always, the National Park Service will make available for public inspection all submissions from organizations or businesses and from persons identifying themselves as representatives or officials of organizations and businesses. Anonymous comments may not be considered. There will also be a public meeting with a date and location to be determined. The meeting will take place no later than two weeks prior to the closing of the public comment period. The date, time and location of the meeting will be identified in local newspapers as well as on the Internet at http://www.nps.gov/gwmp/grfa.

Decision Process: Notice of the availability of the final document will be published in the Federal Register. Subsequently, notice of an approved Record of Decision will be published in the Federal Register not sooner than 30 days after the final document is distributed. The official responsible for the decision is the Regional Director, National Capital Region, National Park Service; the official responsible for implementation is the Superintendent of George Washington Memorial Parkway.

FOR FURTHER INFORMATION CONTACT: Superintendent Audrey F. Calhoun, George Washington Memorial Parkway, Turkey Run Park, McLean, Virginia 22101, phone 703-289-2500, fax 703-289-2598, e-mail: GWMP_Superintendent@nps.gov.

Dated: July 5, 2005.
Joseph M. Lawler,
Regional Director, National Capital Region.

[FR Doc. 05-16078 Filed 8-12-05; 8:45 am]

BILLING CODE 4312-52-M